DEPARTMENT OF TRANSPORTATION

Federal Aviation Administration

The Eighth SC-229/The Ninth WG-98 Plenary Meeting Calling Notice, Aircraft Emergency Locator Transmitters (ELTs)

AGENCY: Federal Aviation Administration (FAA), U.S. Department of Transportation (DOT).

ACTION: The Eighth SC-229/The Ninth WG-98 Plenary Meeting Calling Notice, Aircraft Emergency Locator Transmitters (ELTs).

SUMMARY: The FAA is issuing this notice to advise the public of a meeting of The Eighth SC-229/The Ninth WG-98 Plenary Meeting Calling Notice, Aircraft Emergency Locator Transmitters (ELTs).

DATES: The meeting will be held September 6-9, 2016. Tuesday 11:00 a.m. to 7:00 p.m., Wednesday 9:00 a.m. to 6:00 p.m., Thursday 9:00 a.m. to 5:00 p.m., and Friday from 10:00 a.m. to 4:00 p.m.

ADDRESSES: The meeting will be held at MERCURE Hotel, 31 Place, Jules Ferry, Lorient, France.

FOR FURTHER INFORMATION CONTACT: Alain Bouhet, alain.bouhet@mcmurdogroup.com or Rebecca Morrison, Program Director at (202) 330-0654, rmorrison@rtca.org or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eighth SC-229/The Ninth WG-98 Plenary Meeting Calling Notice Aircraft Emergency Locator Transmitters (ELTs). The agenda will include the following:

Day 1—Tuesday, 6th September 2016 (11 a.m.-7 p.m.)

1. Welcome/Introductions/Administrative Remarks

2. Agenda overview and approval

3. Washington DC Paris meeting review and approval

4. Review Action Items from Paris meeting

5. “Phasing in” RTCA/DO-204B, EUROCAE/ED-62B—Timeline and ToR

6. Briefing of:

a. ICAO GADSS-AG activities

b. COSPAS-SARSAT activities

7. Other Industry coordination and presentations

a. GRICAS

b. HELIOS

8. WG 2 to 5 status and week's plan

9. WG meetings (rest of the day)

Day 2—Wednesday, 7th September 2016 (9 a.m.-6 p.m.)

WG 2 to 5 meetings

Social Event—Diner at La Base place-Race boat marina

Day 3—Thursday, 8th September 2016 (9 a.m.-5 p.m.)

1. WG 2-5 meetings in the morning starting 9 a.m.

2. WGs' reports

3. Action item review

4. Future meeting plans and dates

5. Industry coordination and presentations (if any)

6. Other business

7. Adjourn

Day 4—Friday, 9th September 2016 (10 a.m.-4 p.m.)

1. SAR exercise in real conditions and meeting with French government people and large Military and Civil organizations

2. Visit of the site and interactive presentations on McMurdo expertise about Distress and Tracking

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 12, 2016.
Mohannad Dawoud,
Management & Program Analyst, Partnership Contracts Branch, ANG-A17, NexGen, Procurement Services Division, Federal Aviation Administration.

[FR Doc. 2016-16934 Filed 7-15-16; 8:45 am]

BILLING CODE 4910-13-P